NATIONAL SCIENCE FOUNDATION

National Science Board; Committee on Strategy and Budget; Sunshine Act Meeting

Date and Time: July 13, 2006 3 p.m.-4 p.m. (ET).

Place: National Science Foundation, Room 1235, 4201 Wilson Boulevard, Arlington, VA 22230.

FOR FURTHER INFORMATION CONTACT: Dr. Robert Webber, (703) 292-7000. http://www.nsf.gov/nsb.

Status: This meeting will be closed to the public.

Agenda: Teleconference discussion of the National Science Foundation's FY 2008 budget submission to the Office of Management and Budget.

Michael P. Crosby,
Executive Officer.

[FR Doc. 06-6147 Filed 7-7-06; 9:33 am]

BILLING CODE 7555-01-P